DEPARTMENT OF COMMERCE

National Oceanic and Atmospheric Administration

RIN 0648-XA274

Caribbean Fishery Management Council; Public Meetings

AGENCY: National Marine Fisheries Service (NMFS), National Oceanic and Atmospheric Administration (NOAA), Commerce.

ACTION: Notice of public meetings.

SUMMARY: The Caribbean Fishery Management Council (Council) and its Administrative Committee will hold meetings.

DATES: The meetings will be held on March 29-30, 2011. The Council will convene on Tuesday, March 29, 2011, from 9 a.m. to 5 p.m., and the Administrative Committee will meet from 5:15 p.m. to 6 p.m. They will reconvene on Wednesday, March 30, 2011, from 9 a.m. to 5 p.m.

ADDRESSES: The meetings will be held at the Frenchman's Reef and Morning Star Marriott Beach Resort, 5 Estate Bakkeroe, St. Thomas, VI.

FOR FURTHER INFORMATION CONTACT: Caribbean Fishery Management Council, 268 Muñoz Rivera Avenue, Suite 1108, San Juan, Puerto Rico 00918-1920, telephone: (787) 766-5926.

SUPPLEMENTARY INFORMATION: The Council will hold its 137th regular Council Meeting to discuss the items contained in the following agenda:

March 29, 2011—9 a.m. to 5 p.m.

• Call to Order.

• Adoption of Agenda.

• Consideration of the 136th Council Meeting Verbatim Transcription.

• Executive Director's Report.

• Presidents Ocean Policy and Coastal and Marine Spatial Planning.

• Presentation—Sam Rauch.

• Fish Traps.

—Lost Traps Study.

—Trap Reduction Program Update.

• ACL Amendment(s).

—Presentation on Biological Opinion Addressing the Continued Operation of the Reef Fish Fishery as Authorized by the 2010 ACL Amendment.

—Consider Modifications to the 2010 ACL Amendment.

—Review 2011 ACL Amendment and Approve DEIS for Publication.

—Report of scoping Meetings—February 2011.

PUBLIC COMMENT PERIOD (5-minutes presentations).

March 29, 2011—5:15 p.m. to 6 p.m.

• Administrative Committee Meeting.

—AP/SSC Membership.

—Budget.

—FY 2009 Update, FY 2010, and FY 2011.

—SOPPs Update.

—Other Business.

March 30, 2011—9 a.m.-5 p.m.

• Continuation Report of Scoping Meetings—February 2011 (if needed).

• Highlights Data Poor Workshop—Kim Gordon.

• Mesophotic Coral Ecosystems and Associated Fish Distributions—Richard Appeldoorn.

• Caribbean Marine Etiquette Video Project—Lisamarie Carrubba.

• Enforcement Reports.

—Puerto Rico -DNER.

—U.S. Virgin Islands—DPNR.

—NOAA/NMFS.

—U.S. Coast Guard.

• Administrative Committee Recommendations.

• Meetings Attended by Council Members and Staff.

PUBLIC COMMENT PERIOD (5-minute presentations).

• Other Business.

—Bajo de Sico and Abril la Sierra.

• Next Council Meeting.

The established times for addressing items on the agenda may be adjusted as necessary to accommodate the timely completion of discussion relevant to the agenda items. To further accommodate discussion and completion of all items on the agenda, the meeting may be extended from, or completed prior to the date established in this notice.

The meetings are open to the public, and will be conducted in English. However, simultaneous translation (English/Spanish) will be provided. Fishers and other interested persons are invited to attend and participate with oral or written statements regarding agenda issues.

Although non-emergency issues not contained in this agenda may come before this group for discussion, those issues may not be subjects for formal action during this meeting. Actions will be restricted to those issues specifically identified in this notice, and any issues arising after publication of this notice that require emergency action under section 305(c) of the Magnuson-Stevens Fishery Conservation and Management Act, provided that the public has been notified of the Council's intent to take final action to address the emergency.

Special Accommodations

These meetings are physically accessible to people with disabilities. For more information or request for sign language interpretation and/other auxiliary aids, please contact Mr. Miguel A. Rolón, Executive Director, Caribbean Fishery Management Council, 268 Muñoz Rivera Avenue, Suite 1108, San Juan, Puerto Rico, 00918-1920, telephone: (787) 766-5926, at least 5 days prior to the meeting date.

Dated: March 4, 2011.
Tracey L. Thompson,
Acting Director, Office of Sustainable Fisheries, National Marine Fisheries Service.

[FR Doc. 2011-5289 Filed 3-8-11; 8:45 am]

BILLING CODE 3510-22-P